DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services at 70 FR 30961-30962, May 31, 2005, is amended to reflect changes of the functional statements for the Center for Substance Abuse Prevention (CSAP). This amendment is necessary to reflect the restructuring of CSAP, including the abolishment of three current CSAP divisions, (Division of State and Community Assistance (DSCA), Division of Knowledge Application and Systems Improvement (DKASI), and Division of Prevention Education (DPE)), and replacing them with three new divisions, Division of State Programs, Division of Community Programs, and Division of Systems Development, and replacing the functional statement for the Division of Workplace Programs (MPE). The proposed restructuring will have a significant and positive impact on organizational effectiveness. These changes will enhance program accountability; provide more clarity and direction for CSAP staff, and promote achievement of crosscutting prevention objectives and flexibility. The changes are as follows:

Section M.20, Functions is amended as follows:

(A) The functional statements for the Center of Substance Abuse Prevention (MP), Office of the Director (MP-1), Office of Program Analysis and Coordination (MPA), Division of State and Community Assistance (DSCA), Division of Knowledge Application and Systems Improvement (DKASI), Division of Prevention Education (DPE) and the Division of Workplace are replaced with the following:

Center for Substance Abuse Prevention (MP)

The mission of the Center for Substance Abuse Prevention (CSAP) is to build resiliency and facilitate recovery. CSAP provides national leadership in the development of policies, programs and services to prevent the onset of illegal drug, underage alcohol, and tobacco use. CSAP disseminates effective substance abuse prevention practices and builds the capacity of States, communities and other organizations to apply prevention knowledge effectively. An integrated systems approach is used to coordinate these activities and collaborate with other Federal, State, public and private organizations.

Office of the Director (MP1)

(1) Provides leadership, coordination, and direction in the development and implementation of CSAP goals and priorities, and serves as the focal point for the Department's efforts on substance abuse and HIV/AIDS prevention; (2) plans, directs, and provides overall administration of the programs and activities of CSAP; (3) provides leadership in the identification of new and emerging issues, and the integration of primary prevention, early intervention, re-entry and relapse prevention, knowledge and information in the major CSAP programs; (4) manages special projects and external liaison activities; and (5) directs CSAP's overall human resource activities and monitors the conduct of equal employment opportunity activities for CSAP.

Office of Program Analysis and Coordination (MPA)

(1) Supports the Center's implementation of programs and policies by providing guidance in the administration, analysis, planning, and coordination of the Center's programs, consistent with agency priorities; (2) manages the Center's participation in the agency's policy, planning, budget formulation and execution, program development and clearance, and internal and external requests, including strategic planning, identification of program priorities, development of Healthy People 2010, and other agency-wide and departmental planning activities; (3) provides support for the Center Director; coordinates staff development activities, analyzes the impact of proposed legislation and rule-making; supports administrative functions, including human resource actions; conducts special studies; serves as liaison for special populations/initiatives including White House Executive Orders for specific minority populations; (4) manages CSAP's National Advisory Council activities; and (5) coordinates CSAP's evaluation program.

Division of State Programs (MPJ)

The Division of State Programs is responsible for carrying out the Center's agenda to increase capacity and improve accessibility of effective substance abuse prevention across States, American Indian/Alaska Native Tribes, and tribal organizations. The Division provides most program services through two regional teams. The Division (1) plans, develops and administers programs to implement comprehensive and effective State substance abuse prevention systems and other related health promotion systems; (2) promotes and establishes comprehensive, long-term State and tribal substance abuse prevention/intervention policies, programs, practices, and support activities to address substance abuse and related emerging issues; (3) administers the prevention set-aside of the Substance Abuse Prevention and Treatment (SAPT) Block Grant; (4) collaborates with other units in the application of SAMHSA's Strategic Prevention Framework with States and Tribes; (5) develops funding announcements, ensures coordination with grant management systems, and administers national discretionary grant programs, such as the Strategic Prevention Framework State Incentive grant (SPF SIG) program; (6) administers the Synar regulations governing youth access to tobacco products; (7) works across CSAP and SAMHSA to promote inter/intra-agency collaboration at the Federal, State and tribal levels; serves as the liaison for CSAP interactions with State agency and National Prevention Network officials on State issues; monitors State progress in achieving National Outcome Measures and plans for associated technical assistance; monitors compliance with Block Grant and other Federal requirements.

Division of Community Programs (MPH)

The Division of Community Programs is responsible for carrying out the Center's agenda to increase capacity and improve accessibility of effective substance abuse prevention services across communities. This includes management of all CSAP grants targeted to communities and non-profit organizations, such as Drug Free Communities, HIV/AIDS, methamphetamine, and conference grants. The Division is organized into three branches with responsibility to (1) plan, develop, and administer programs of regional and national significance to enhance comprehensive and effective community substance abuse prevention systems, including disaster relief programs; (2) promote and establish comprehensive substance abuse prevention/intervention policies, programs, practices, and support services to address substance abuse and emerging issues; (3) collaborate with other units in the application of SAMHSA's Strategic Prevention Framework in community prevention systems; (4) develop funding announcements, ensure coordination with grant management systems, and administer discretionary grant programs; (5) work across SAMHSA to promote interagency collaboration; (6) monitor grantee and contractor progress in achieving National Outcome Measures, and plan associated technical assistance; and (7) monitor compliance with all Federal requirements.

Division of Systems Development (MPI)

The Division of Systems Development provides leadership and guidance in the planning, development, and implementation of programs and prevention concepts across the Center, and is responsible for carrying out the Center's health promotion and public education activities. The Division's responsibilities include (1) promotion and implementation of key prevention concepts across all programs and activities of the Center, including the Strategic Prevention Framework, project sustainability, and coordination/integration of community and State programs; (2) management of technical assistance contracts that support all of the Center's prevention programs; (3) coordination of CSAP's GPRA and National Outcome Measure activities, including liaison with offices responsible for data collection; (4) analysis of data related to program operations and assistance to other CSAP components in employing data to improve program performance; (5) analysis, development, and integration of information, including evidence-based practices and NREPP programs, necessary to improve State and community prevention service delivery; (6) leadership within SAMHSA in the development, training and use of geographic information system (GIS) resources to improve policy development and program operations; (7) collaboration with Federal, State, and local governments to promote the adoption of evidence-based prevention programs and practices and develop innovative strategies to address emerging substance abuse issues; (8) initiation, development, and coordination of efforts to support workforce development for substance abuse prevention professionals; (9) leadership to the Center in the development of health promotion and education products, materials, messages, publications, and information technologies; (10) collaboration with other Federal and private sector prevention initiatives in developing and disseminating targeted prevention material, including the SAMHSA Office of Communications; (11) development and continual update of prevention material for use by external prevention partners.

Division of Workplace Programs (MPE)

(1) Establishes goals and objectives in the administration of a national program designed to promote substance abuse free workplaces; (2) provides leadership and oversight to assure that effective employee assistance programs are developed and evaluated to prevent substance abuse in the workplace; (3) develops, implements, and evaluates employee education/prevention programs, access to counseling, early intervention, and referral treatment/rehabilitation, and support services for employees following treatment/rehabilitation; (4) advises, coordinates, and certifies activities related to the implementation and administration of federal drug free workplace programs, convenes the Drug Testing Advisory Board, and conducts surveys on federal programs; (5) advises other SAMHSA components and HHS regarding workplace programmatic directions and actions and enters into collaborative arrangements with other federal agencies; (6) collaborates in the development and implementation of substance abuse prevention and early intervention strategies for public/private sector use at the State and community levels, and operates the Workplace Hotline Contract as a means for dissemination, outreach and technical assistance to businesses, States and communities; (7) provides technical assistance to facilitate national training and certification programs for substance abuse professionals and practitioners, provides staff expertise in training and credentialing standards for medical review officers (MROs) and the Department of Transportation mandated substance abuse professionals; (8) provides leadership within SAMHSA and the field in developing and disseminating knowledge in workplace violence related to substance abuse, including risk factors in the workplace and community and the role of the workplace as a substance abuse and violence prevention agent within the community and family; and (9) evaluates managed care and other treatment provider practices as they are applied in the workplace.

Delegations of Authority

All delegations and redelegations of authority to officers and employees of SAMHSA which were in effect immediately prior to the effective date of this reorganization shall continue in effect pending further redelegations, providing they are consistent with the reorganization.

These organizational changes are effective March 7, 2006.
Charles G. Curie,
Administrator.

[FR Doc. E6-5694 Filed 4-14-06; 8:45 am]

BILLING CODE 4160-01-P